DEPARTMENT OF COMMERCE

National Oceanic and Atmospheric Administration

50 CFR Part 660

[Docket No.051014263-6028-03; I.D. 062706B]

Fisheries Off West Coast States; Pacific Coast Groundfish Fishery; Specifications and Management Measures; Inseason Adjustments

AGENCY: National Marine Fisheries Service (NMFS), National Oceanic and Atmospheric Administration (NOAA), Commerce.

ACTION: Inseason adjustments to groundfish management measures; request for comments.

SUMMARY: NMFS announces changes to management measures in the commercial and recreational Pacific Coast groundfish fisheries. These actions, which are authorized by the Pacific Coast Groundfish Fishery Management Plan (FMP), are intended to allow fisheries to access more abundant groundfish stocks while protecting overfished and depleted stocks.

DATES: Effective 0001 hours (local time) July 1, 2006. Comments on this rule will be accepted through August 2, 2006.

ADDRESSES: You may submit comments, identified by I.D. 062706B, by any of the following methods:

• E-mail: GroundfishInseason9.nwr@noaa.gov. Include I.D. 062706B in the subject line of the message.

• Federal eRulemaking Portal: www.regulations.gov. Follow the instructions for submitting comments.

• Mail: D. Robert Lohn, Administrator, Northwest Region, NMFS, Attn: Jamie Goen, 7600 Sand Point Way NE, Seattle, WA 98115-0070.

• Fax: 206-526-6736, Attn: Jamie Goen.

FOR FURTHER INFORMATION CONTACT: Jamie Goen (Northwest Region, NMFS), phone: 206-526-6150; fax: 206-526-6736; or e-mail: jamie.goen@noaa.gov.

SUPPLEMENTARY INFORMATION:

Electronic Access

This Federal Register document is available on the Government Printing Office's website at: www.gpoaccess.gov/fr/index.html.

Background information and documents are available at the Pacific Fishery Management Council's (Pacific Council's) website at: www.pcouncil.org.

Background

The Pacific Coast Groundfish FMP and its implementing regulations at Title 50 in the Code of Federal Regulations (CFR), part 660, subpart G, regulate fishing for over 80 species of groundfish off the coasts of Washington, Oregon, and California. Groundfish specifications and management measures are developed by the Pacific Council, and are implemented by NMFS. The specifications and management measures for 2005-2006 were codified in the CFR (50 CFR part 660, subpart G). They were published in the Federal Register as a proposed rule on September 21, 2004 (69 FR 56550), and as a final rule on December 23, 2004 (69 FR 77012). The final rule was subsequently amended on March 18, 2005 (70 FR 13118); March 30, 2005 (70 FR 16145); April 19, 2005 (70 FR 20304); May 3, 2005 (70 FR 22808); May 4, 2005 (70 FR 23040); May 5, 2005 (70 FR 23804); May 16, 2005 (70 FR 25789); May 19, 2005 (70 FR 28852); July 5, 2005 (70 FR 38596); August 22, 2005 (70 FR 48897); August 31, 2005 (70 FR 51682); October 5, 2005 (70 FR 58066); October 20, 2005 (70 FR 61063); October 24, 2005 (70 FR 61393); November 1, 2005 (70 FR 65861); and December 5, 2005 (70 FR 723850). Longer-term changes to the 2006 specifications and management measures were published in the Federal Register as a proposed rule on December 19, 2005 (70 FR 75115) and as a final rule on February 17, 2006 (71 FR 8489). The final rule was subsequently amended on March 27, 2006 (71 FR 10545), April 11, 2006 (71 FR 18227), April 26, 2006 (71 FR 24601), May 11, 2006 (71 FR 27408), May 22, 2006 (71 FR 29257), and June 1, 2006 (71 FR 31104).

The changes to current groundfish management measures implemented by this action were recommended by the Pacific Council, in consultation with Pacific Coast Treaty Indian Tribes and the States of Washington, Oregon, and California, at its June 12-16, 2006, meeting in Foster City, CA. At that meeting, the Pacific Council recommended: (1) allowing the lingcod commercial harvest guideline to be exceeded while staying within the OY; (2) implementing a darkblotched rockfish bycatch limit for the commercial limited entry primary whiting fishery; (3) modifying the limited entry trawl rockfish conservation areas (RCAs) and trip limits north of 38° N. lat. and the non-groundfish trawl RCA between 40°10′ N. lat. and 38° N. lat. to protect darkblotched rockfish; (4) announcing triggers for the catch of canary rockfish and petrale sole in the limited entry trawl fishery that would prompt NMFS to implement an inseason action between the June and September Pacific Council meetings; (5) increasing the limited entry fixed gear and open access trip limit for deeper nearshore rockfish during September through October between 40°10′ N. lat. and 34°27′ N. lat.; (6) modifying the recreational RCA boundaries south of 40°10′ N. lat.; (7) increasing the recreational fishing season for the (rockfish, cabezon, and greenling complex)(RCG complex), lingcod and California scorpionfish between 36° N. lat. and 34°27′ N. lat. through October; (8) increasing the recreational fishing season for California scorpionfish south of 34°27′ N. lat. to July-December; (9) allowing the tribal fisheries to test gear modifications; and (10) implementing tribal harvest targets for Dover sole and arrowtooth flounder that combine trip limits from July through December. Pacific Coast groundfish landings will be monitored throughout the year and further adjustments to trip limits or management measures will be made as necessary to allow achievement of, or to avoid exceeding, optimum yields (OYs).

Lingcod Commercial Harvest Guidelines

The 2006 commercial harvest guideline for lingcod of 214.7 mt is projected to be exceeded before the end of the year by approximately 135.3 mt. However, the anticipated total catch, 487 mt north of 42° N. lat. and 405.1 mt south of 42° N. lat, is not expected to exceed either of the lingcod OYs (1,801 mt north of 42° N. lat. and 612 mt south of 42° N. lat), or the coastwide ABC (2,716 mt). Allowing the lingcod commercial harvest guideline to be exceeded will prevent the commercial fishery from being unnecessarily constrained. Therefore, NMFS will not take action to constrain lingcod fisheries at this time, but will continue to monitor the fisheries to avoid risk of exceeding the lingcod OYs for the remainder of the year.

Limited Entry Trawl Whiting Fishery Bycatch Limits for Darkblotched Rockfish

Prior to the start of the 2006 whiting season, the projected catch of darkblotched rockfish by the non-tribal sectors of the whiting fishery (catcher-processors, motherships, and vessels delivering shoreside) was 16.2 mt. Since the start of the 2006 primary whiting season, higher than anticipated darkblotched rockfish catch has occurred in the shore-based and at-sea whiting fisheries. Data available on June 9, 2006, indicates that 30 mt of darkblotched rockfish could be taken by the non-tribal whiting sectors if the current catch rates continue throughout the season. The Pacific Council recommended a 25-mt darkblotched rockfish bycatch limit for the non-tribal whiting sectors to reduce the likelihood of the darkblotched rockfish OY being exceeded, and to reduce the risk of the whiting fishery affecting the seasons for other groundfish fisheries that encounter darkblotched rockfish. In the non-tribal sectors of the limited entry trawl whiting fishery, overfished species bycatch limits are currently in place for canary (4.7 mt) and widow rockfish (200 mt). A 25-mt bycatch limit for darkblotched rockfish in the non-tribal whiting fishery is not equivalent to a bycatch allocation. The non-tribal whiting fishery may not have the full 25 mt available to achieve the whiting OY if the catch of darkblotched rockfish in other fisheries is higher than projected.

In addition to the non-tribal whiting fishery, higher than anticipated darkblotched rockfish catch has occurred in the limited entry bottom trawl fishery. Even with restrictions to the bottom trawl fishery to reduce darkblotched rockfish catch, there is still a risk that the darkblotched rockfish OY may be exceeded if the current darkblotched bycatch rate in the whiting fishery continues without a bycatch limit.

Previously, the Pacific Council considered a bycatch limit for darkblotched rockfish at its March and April 2006 meetings. However, a limit was not adopted at that time for the following reasons: the need for whiting vessels to have flexibility to change fishing locations to avoid Chinook salmon, canary and widow rockfish; darkblotched rockfish encounters could increase if the fishery chose to operate in deeper waters to avoid Chinook salmon or overfished shelf species; the increased abundance of darkblotched rockfish as it nears the rebuilt stock level could also result in an increased bycatch rate for darkblotched rockfish; and, the past success of whiting fishery participants to modify their fishing behavior to avoid all species of concern. However, current catch of darkblotched rockfish in both the whiting and non-whiting fisheries is such that action should be taken to slow the catch of darkblotched rockfish.

Therefore, the Pacific Council recommended and NMFS is implementing, a darkblotched rockfish bycatch limit of 25 mt for the non-tribal limited entry trawl whiting fishery.

Limited Entry Trawl RCAs and Trip Limits North of 38° N.

Higher than expected darkblotched rockfish catch early in the year is projected to result in the darkblotched rockfish OY being exceeded by late summer unless the non-whiting limited entry trawl fishery north of 38° N. lat. is constrained. Darkblotched rockfish catch is approximately 40-50 percent higher than what was projected at the start of the fishing year. Preseason projections in January 2006 had indicated that 80-90 mt of darkblotched rockfish would be taken by the end of June. However, current Pacific Fisheries Information Network (PacFIN) data indicates that 122 mt will be taken by the end of June 2006. If measures are not taken to constrain the non-whiting limited entry trawl fishery, the groundfish fishery as a whole (including the whiting fishery) is projected to take 284.1 mt of darkblotched rockfish through the end of the year, exceeding the 200 mt OY. Approximately 20-30 mt are needed for the period 6 (November-December) petrale fishery to occur. With an OY of 200 mt and a projected catch of 122 mt through the end of June, the total catch of darkblotched rockfish needs to be less than 170 mt through the end of October for the period 6 petrale fishery to occur.

To slow the catch rate of darkblotched rockfish in the non-whiting limited entry trawl fishery, the Pacific Council recommended increasing the size of the RCA north of 38° N. lat. for July through December, and reducing cumulative limits for slope rockfish and splitnose rockfish, species that co-occur with darkblotched rockfish. The Pacific Council estimates that 165.6 mt of darkblotched rockfish will be caught through the end of the year by the non-whiting portions of the groundfish fishery as a result of these inseason actions, including the darkblotched rockfish that would be associated with a petrale sole fishery in period 6. However, if darkblotched rockfish mortality continues to be higher than projected or approaches the OY even with these inseason actions, there will not be an opportunity for a period 6 petrale fishery.

In addition to increasing the size of the trawl RCAs, the Pacific Council recommended reducing trip limits for slope, darkblotched, and splitnose rockfish. Reducing these slope rockfish limits is intended to eliminate any incentive to target slope species and to reduce darkblotched rockfish catch. Even though slope species tend to be sparse seaward of 250-fm (457-m), some vessels are currently targeting the slope, darkblotched and splitnose rockfish trip limits and may continue to do so even with the seaward boundary of the trawl RCA extended out to a boundary line approximating 250 fm (457 m). Reducing the slope, darkblotched, and splitnose rockfish trip limits to 1,000 lb (454 kg) per 2 months is expected to eliminate the incentive to target these species, while allowing incidentally-caught amounts of these species to be retained. In addition, it should ensure an opportunity for a period 6 petrale sole fishery by reducing the mortality of darkblotched rockfish.

The management measures affecting darkblotched rockfish are more restrictive north of 40°10′ N. lat. and less restrictive south of 38° N. lat., because darkblotched rockfish are less abundant in this southern portion of their range. Generally, the area between of 40°10′ N. lat. and 38° N. lat. is subject to transitional slope rockfish management measures, somewhere between the management measures north and south of this area. Inseason data for 2006 shows that darkblotched rockfish landings off California are approximately 6.7 mt south of 40°10′ N. lat. and approximately 8 mt north of 40°10′ N. lat. to the CA/OR border. Data provided by the California Department of Fish and Game (CDFG) for the area between 40°10′ N. lat and 38° N. lat indicate that in 2005, 79 percent of darkblotched rockfish came from shallower than 200 fm (366 m), while the remaining amount came from 200-250 fm (366-457 m) (none deeper than 250 fm (457 m)). However, over a longer period of time, data indicated that 9 percent of the darkblotched rockfish catch was from waters deeper than 250 fm (457 m), approximately 20 percent was from 200-250 fm (366-457 m), and approximately 70 percent was from waters shallower than 200-fm (366-m). Because of the clear need to reduce darkblotched rockfish mortality to as low as possible, the Pacific Council decided against transitional management in this area for slope rockfish trip limits. The Pacific Council recommended that the slope rockfish trip limit reductions be applied to the area between 40°10′ N. lat and 38° N. lat.

Moving the seaward line of the trawl RCA to deeper depths is predicted to result in an increase in trawl fishing effort in the areas shoreward of the RCA, potentially affecting other overfished species such as canary rockfish. The Pacific Council considered moving the shoreward trawl RCA boundary to protect overfished species, but this option generated a number of concerns from state management agencies, the coastal tribes, and coastal fishers. Among these concerns are Dungeness crab impacts in nearshore habitat, particularly during the summer when trawl mortality of soft-shelled molting crab is likely high. Additionally, the nearshore area is a nursery ground for juvenile flatfish and other groundfish species. Concentrating trawl effort in this area could increase mortalities on juvenile and unmarketable fish. Therefore, the Pacific Council recommended that the shoreward boundary of the RCA remain as previously scheduled, a boundary line approximating 100 fm (183 m) in July-August and 75 fm (137 m) in September-December north of 40°10′ N. lat., and a boundary line approximating 100 fm (183 m) in July-October and 75 fm (137 m) in November-December between 40°10′ N. lat. and 38° N. lat.

Because of concerns that the catch of canary rockfish could increase over current projections and in order to try to accommodate the petrale fishery in period 6, the Pacific Council recommended inseason triggers for canary rockfish and petrale sole for NMFS to take action before the September 2006 Pacific Council meeting. (See next section for more detail on triggers.)

Because the Dover sole, thornyheads, and sablefish (DTS) fishery is projected to shift into deeper waters to protect darkblotched rockfish, raising the shortspine thornyhead trip limit is expected to reduce regulatory discards while still keeping the total catch of shortspine thornyhead within the 1,011-mt shortspine thornyhead commercial harvest guideline.

NMFS will make the same changes to the seaward boundary of the open access non-groundfish trawl RCA south of 40°10′ N. lat. that it is making to the trawl RCA. Historically, the limited entry and open access trawl RCAs have been similar, except that the shoreward boundary of the open access non-groundfish trawl RCA for ridgeback prawn trawl does not move shoreward of a boundary line approximating 100 fm (183 m) south of 34°27′ N. lat. These RCAs are similar because trawl gear, whether limited entry groundfish trawl or open access non-groundfish trawl, tends to intercept overfished groundfish species.

Therefore, the Pacific Council recommended, and NMFS is implementing the following RCA and trip limit changes for the limited entry trawl fishery: (1) North of 40°10′ N. lat., move the seaward boundary of the trawl RCA from 200 fm (366 m) in July-December (with petrale sole modifications for the November-December period) to 250 fm (457 m) from July-December (with petrale sole modifications for the November-December period); (2) north of 40°10′ N. lat., reduce minor slope and darkblotched rockfish trawl trip limits (large, small, and selective flatfish trawl) from 4,000 lb (1,814 kg) per 2 months to 1,000 lb (454 kg) per 2 months for July-December; (3) north of 40°10′ N. lat., increase the shortspine thornyhead trip limit for large and small footrope trawl from 5,800 lb (2,631 kg) per 2 months to 7,500 lb (3,402 kg) per 2 months for July-October; (4) between 38° N. lat and 40°10′ N. lat., move the seaward boundary of the trawl RCA (both limited entry trawl RCA and non-groundfish trawl RCA) from 150 fm (274 m) in July-December to 200 fm (366 m) in July-August, and to 250 fm (457 m) in September-December (with petrale sole modifications for the November-December period); (5) between 38° N. lat and 40°10′ N. lat., reduce minor slope and darkblotched rockfish trawl trip limits from 8,000 lb (3,629 kg) per 2 months to 1,000 lb (454 kg) per 2 months for July-December; (6) between 38° N. lat and 40°10′ N. lat., reduce splitnose rockfish trawl trip limits from 8,000 lb (3,629 kg) per 2 months to 1,000 lb (454 kg) per 2 months for July-December; and (7) between 38° N. lat and 40°10′ N. lat., increase shortspine thornyhead trip limits from 4,900 lb (2,223 kg) per 2 months to 7,500 lb (3,402 kg) per 2 months for July-October.

Inseason Triggers for the Limited Entry Trawl Fishery

In recent years, there has been limited ability to respond to unexpected undesirable changes in harvest trends between the June and September Pacific Council meetings. By the September Pacific Council meeting, the Pacific Council must often recommend more drastic management measure changes to reverse higher than expected catch trends from the summer fisheries. Recommendations from the September Pacific Council meeting are implemented by NMFS via an inseason action effective at the beginning of October. As a mechanism to take action between meetings, if necessary in 2006, the Pacific Council recommended routine management measures that it would like NMFS to take if a specific undesirable harvest trends occur in the fishery between Pacific Council meetings. For example, if higher than projected catch rates of key species reach a pre-specified threshold, NMFS could respond by reducing trip limits or shifting RCA boundaries in keeping with recommendations made by the Pacific Council at its previous meeting. At its June 2006 meeting, the Pacific Council recommended this mechanism for addressing concern for the potential loss of the period 6 petrale fishery, and concern over potential effects on canary rockfish if trawl effort increases in areas shoreward of the RCA.

Therefore, The Pacific Council recommended the following triggers and inseason actions: (1) If the catch of canary rockfish in the limited entry bottom trawl sector is projected to reach 7.75 mt by the end of a month, NMFS will move the shoreward boundary of the RCA in to the shore north of 40°10′ N. lat. at the end of that month; and (2) if the catch of petrale sole in the LE bottom trawl sector is projected to reach 2,000 mt (72 percent of the OY) by August 31, NMFS will reduce cumulative trip limits for petrale sole, “other flatfish” and English sole, and arrowtooth flounder for period 5 (September-October). Petrale sole trip limits for each type of bottom trawl gear and each area will be reduced by 8,000 lb (3,629 kg) per 2 months coastwide, and trip limits of “Other Flatfish” and English sole and arrowtooth flounder will also be reduced to 4 times the petrale sole limit if those limits are more than 4 times the petrale sole limit (e.g., the petrale sole limit could be 2,000 lb (907 kg), and the “other flatfish” and English sole limit 8,000 lb (3,629 kg).). NMFS will track landings and intends to implement these management measures if the triggers are met.

Limited Entry Fixed Gear and Open Access Deeper Nearshore Rockfish Trip Limits

California Department of Fish and Game (CDFG) recommended, that the trip limit for deeper nearshore rockfish between 40°10′ N. lat. and 34°27′ N. lat. be increased to 500 lb (227 kg) per 2 months during September-October, which matches the trip limit for all other open periods in that area. CDFG manages its nearshore fishery with State harvest targets that are more conservative than Federal limits. A review of landings indicate that the deeper nearshore rockfish state harvest target is behind projections for this year. With this inseason adjustment, the deeper nearshore rockfish state harvest target is projected to be achieved by the end of December 2006. This fishery will continue to be monitored and further changes made, if necessary. Because catch of deeper nearshore rockfish is currently behind projections and there are not expected to be increased impacts on overfished species as a result of this action, the Pacific Council recommended increasing the deeper nearshore rockfish trip limit in this area.

Therefore, the Pacific Council recommended and NMFS is implementing, an increase in the deeper nearshore rockfish trip limits for limited entry fixed gear and open access fisheries between 40°10′ N. lat. and 34°27′ N. lat. from 400 lb (181 kg) per 2 months to 500 lb (227 kg) per 2 months during September-October.

California Recreational RCAs and Seasons

In 2005, NMFS implemented inseason changes to California′s recreational RCAs and seasons. These changes were based on 2004 California Recreational Fisheries Survey (CRFS) data showing: (1) that recreational harvest of overfished species was below California′s recreational harvest targets; and (2) that CRFS improved California′s ability to monitor recreational fisheries inseason. The inseason action published in the Federal Register on May 4, 2005 (70 FR 23040), provided more recreational fishing opportunity while keeping projected impacts within recreational harvest targets.

In March 2006, CRFS estimates on the recreational take for 2005 became available. These estimates indicated that even under the revised recreational management measures implemented through the March 2005 inseason action, California recreational harvest targets for overfished species were not exceeded and, for some species, catch was well below projected impacts. However, due to the shallow depth restrictions of 20 fm (37 m) between 40°10′ N. lat. and 36° N. lat., fishing pressure increased on nearshore groundfish species resulting in take that met or exceeded these species OYs or harvest targets. These results suggest that the 2006 recreational management measures could be further revised to allow for additional fishing opportunity for shelf species, such as vermillion rockfish, while reducing fishing pressure on nearshore groundfish species, such as nearshore rockfish and cabezon.

In order to provide this additional opportunity while remaining within recreational harvest targets, CDFG recommended liberalizing RCAs south of 40°10′ N. lat. and liberalizing seasons for the RCG complex, lingcod, and California scorpionfish between 36° N. lat. and 34°27′ N. lat. Under CDFG′s proposal, their recreational model projects impacts on overfished species to be: 65 mt of bocaccio, 7.7 mt of canary rockfish, 7.7 mt of widow rockfish, 0.3 mt of cowcod, 262 mt of lingcod, and 1.5 mt of yelloweye rockfish. All projected catch estimates continue to remain within harvest targets, allocations and/or California harvest guidelines.

In addition, CDFG recommended that NMFS take action to conform Federal regulations to state regulations for California scorpionfish in state waters. The seasons for California scorpionfish were changed in California State regulations on March 20, 2006, to make the seasons for California scorpionfish match those for the RCG complex and the recreational RCAs in state waters. The 2005 season was only 3 months long and resulted in landings well under the state harvest target. This action extends the 2006 season by 3 months. The additional projected take of California scorpionfish as a result of this action is expected to stay within the state harvest target. Therefore, CDFG recommended that NMFS take action to conform Federal regulations to state regulations for Federal waters to change the California scorpionfish season south of 34°27′ N. lat. from open October-December to open July-December.

California's ability to track the fishery in a timely and accurate manner using CRFS and to take prompt inseason action later in the year to close the fishery if expected harvests exceed projections should minimize any risk to overfished species that may be associated with liberalizing the fishery. Therefore, the Pacific Council recommended, and NMFS is implementing, the following recreational RCA and season changes: (1between 40°10′ N. lat. and 36° N. lat., move the shoreward boundary of the recreational RCA from the 20-fm (37-m) depth contour to a boundary line approximating 30 fm (55 m) in July-December; (2) between 36° N. lat. and 34°27′ N. lat., open the area shoreward of the recreational RCA through the month of October (i.e., the recreational RCA extends from a boundary line approximating the 40-fm (73-m) depth contour to the exclusive economic zone (EEZ) from May-October); (3) south of 34°27′ N. lat., move the shoreward boundary of the recreational RCA from a boundary line approximating 30-fm (55-m) depth contour to a boundary line approximating 60 fm (110 m) in September-October (i.e., closed between 60 fm (110 m) and the EEZ in March-December); (4) between 36° N. lat. and 34°27′ N. lat., extend the open season for RCG complex, lingcod, and California scorpionfish through the month of October; and (5) south of 34°27′ N. lat., extend the open season for California scorpionfish from October-December to July-December.

Tribal Trawl Fisheries

The Makah Tribe proposed examining the effectiveness of different trawl gear configurations combined with area management to reduce impacts on overfished species and Pacific halibut. The Makah Tribe proposed testing small footrope trawl gear compared to pineapple - cutback headrope trawl gear (aka: selective flatfish trawl gear) for differences in bycatch and plans to provide a report on its efforts to the Pacific Council in November 2006. To complete this work the Makah Tribe would create combined harvest targets for its trawl fleet for Dover sole and arrowtooth flounder that are equivalent to the limited entry cumulative limits specified for periods 4, 5, and 6 (July-December) which were in place at the beginning of the year. When multiplied by the number of vessels in the fleet, 10, this represents a total fleet harvest target of 476.3 mt (1,050,000 lb) for Dover sole and 1360.8 mt (3,000,000 lb) for arrowtooth flounder. This proposal would give the Makah Tribe more flexibility to harvest more abundant species, such as Dover sole and arrowtooth flounder, while keeping incidental catch of overfished species low, namely Pacific ocean perch, canary rockfish, widow rockfish and darkblotched rockfish. These changes are not expected to result in any OYs being exceeded.

Therefore, the Pacific Council recommended and NMFS is implementing a tribal harvest target of 1360.8 mt for Dover sole and 476.3 mt for arrowtooth flounder for the remainder of 2006 to replace the vessel specific trip limits for these species.

Classification

These actions are taken under the authority of 50 CFR 660.370(c) and are exempt from review under Executive Order 12866.

These actions are authorized by the Pacific Coast groundfish FMP and its implementing regulations, and are based on the most recent data available. The aggregate data upon which these actions are based are available for public inspection at the Office of the Administrator, Northwest Region, NMFS, (see ADDRESSES) during business hours.

Pursuant to 5 U.S.C. 553(b)(B), there is good cause to waive prior notice and an opportunity for public comment on this action, as notice and comment would be impracticable. The data upon which these recommendations were based was provided to the Pacific Council, and the Pacific Council made its recommendations at its June 12-16, 2006, meeting in Foster City, CA. There was not sufficient time after that meeting to draft this notice and undergo proposed and final rulemaking before these actions need to be in effect at the start of the next cumulative limit period, July 1, 2006, as explained below. For the actions to be implemented in this notice, prior notice and opportunity for comment would be impracticable because affording the time necessary for prior notice and opportunity for public comment would impede the Agency′s function of managing fisheries using the best available science to approach without exceeding the OYs for federally managed species. The adjustments to management measures in this document affect commercial and recreational groundfish fisheries. Changes to the limited entry trawl fishery must be implemented in a timely manner by July 1, 2006, to reduce mortality of darkblotched rockfish, an overfished species. Changes to the recreational fishery must be implemented by July 1, 2006, in order to provide opportunities for anglers to catch groundfish within harvest targets while reducing the effects on nearshore stocks. Changes to the tribal trawl fisheries must be implemented in a timely manner by July 1, 2006, in order to allow the Makah Tribe to provide an opportunity for fishers to test gear modifications to reduce catch of overfished species in 2006. Delaying any of these changes would keep management measures in place that are not based on the best available data and which could lead to early closures of the fishery if harvest of groundfish exceeds levels projected for 2006 and that deny fishermen access to available harvest. This would impair achievement of one of the Pacific Coast Groundfish FMP objectives of providing for year-round harvest opportunities or extending fishing opportunities as long as practicable during the fishing year.

For these reasons, good cause also exists to waive the 30 day delay in effectiveness requirement under 5 U.S.C. 553 (d)(3).

List of Subjects in 50 CFR Part 660

Fisheries, Fishing, Indian fisheries.

Dated: June 27, 2006.
James P. Burgess,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq.

2. In § 660.373, paragraph (b)(4) is revised to read as follows:

§ 660.373 Pacific whiting (whiting) fishery management.

* * * * *

(b) * * *

(4) 2005 2006 bycatch limits in the whiting fishery. The bycatch limits for the whiting fishery may be used inseason to close a sector or sectors of the whiting fishery to achieve the rebuilding of an overfished or depleted stock, under routine management measure authority at § 660.370 (c)(1)(ii). These limits are routine management measures under § 660.370 (c) and, as such, may be adjusted inseason or may have new species added to the list of those with bycatch limits. For 2005, the whiting fishery bycatch limits for the sectors identified § 660.323(a) are 4.7 mt of canary rockfish and 212 mt of widow rockfish. For 2006, the whiting fishery bycatch limits are 4.7 mt of canary rockfish, 200 mt of widow rockfish, and 25 mt of darkblotched rockfish.

* * * * *

3. In § 660.384, paragraphs (c)(3)(i)(A)(2) through (4), (c)(3)(ii)(A)(3), (c)(3)(iii)(A)(3), and (c)(3)(v)(A)(2) are revised to read as follows:

§ 660.384 Recreational fishery management measures.

* * * * *

(c) * * *

(3) * * *

(i) * * *

(A) * * *

(2) Between 40°10′ N. lat. and 36° N. lat., recreational fishing for all groundfish (except “other flatfish”) is prohibited seaward of the 30 fm (55 m) depth contour along the mainland coast and along islands and offshore seamounts from July 1 through December 31; and is closed entirely from January 1 through June 30 (i.e., prohibited seaward of the shoreline). Coordinates for the boundary line approximating the 30 fm (55 m) depth contour are specified in § 660.391. Closures around the Farallon Islands (see paragraph (c)(3)(i)(C) of this section) and Cordell Banks (see paragraph (c)(3)(i)(D) of this section) also apply in this area.

(3) Between 36° N. lat. and 34°27′ N. lat., recreational fishing for all groundfish (except “other flatfish” as specified in paragraph (c)(3)(iv) of this section) is prohibited seaward of a boundary line approximating the 40 fm (73 m) depth contour along the mainland coast and along islands and offshore seamounts from May 1 through October 31; and is closed entirely from January 1 through April 30 and from November 1 through December 31 (i.e., prohibited seaward of the shoreline). Coordinates for the boundary line approximating the 40 fm (73 m) depth contour are specified in § 660.391.

(4) South of 34°27′ N. lat., recreational fishing for all groundfish (except California scorpionfish as specified below in this paragraph and in paragraph (v) and “other flatfish” as specified in paragraph (c)(3)(iv) of this section) is prohibited seaward of a boundary line approximating the 60 fm (110 m) depth contour from March 1 through December 31 along the mainland coast and along islands and offshore seamounts; except in the CCAs where fishing is prohibited seaward of the 20 fm (37 m) depth contour when the fishing season is open (see paragraph (c)(3)(i)(B) of this section). Recreational fishing for all groundfish (except “other flatfish”) is closed entirely from January 1 through February 28 (i.e., prohibited seaward of the shoreline). Recreational fishing for California scorpionfish south of 34°27′ N. lat. is prohibited seaward of a boundary line approximating the 60 fm (110 m) depth contour from July 1 through December 31, except in the CCAs where fishing is prohibited seaward of the 20 fm (37 m) depth contour when the fishing season is open. Recreational fishing for California scorpionfish south of 34°27′ N. lat. is closed entirely from January 1 through June 30 (i.e., prohibited seaward of the shoreline). Coordinates for the boundary line approximating the 60 fm (110 m) depth contour are specified in § 660.392.

* * * * *

(ii) * * *

(A) * * *

(3) Between 36° N. lat. and 34°27′ N. lat., recreational fishing for the RCG Complex is open from May 1 through October 31 (i.e., it′s closed from January 1 through April 30 and from November 1 through December 31).

* * * * *

(iii) * * *

(A) * * *

(3) Between 36° N. lat. and 34°27′ N. lat., recreational fishing for lingcod is open from May 1 through October 31 (i.e., it′s closed from January 1 through April 30 and from November 1 through December 31).

* * * * *

(v) * * *

(A) * * *

(2) Between 36° N. lat. and 34°27′ N. lat., recreational fishing for California scorpionfish is open from May 1 through October 31 (i.e., it′s closed from January 1 through April 30 and from November 1 through December 31).

(3) South of 34°27.00′ N. lat., recreational fishing for California scorpionfish is open from July 1 through December 31 (i.e., it′s closed from January 1 through June 30).

* * * * *

4. In § 660.385, paragraph (d) is revised to read as follows:

§ 660.385 Washington coastal tribal fisheries management measures.

* * * * *

(d) Flatfish and other fish. Treaty fishing vessels using bottom trawl gear are subject to the limits applicable to the non-tribal limited entry trawl fishery for English sole, rex sole, and other flatfish that are published at the beginning of the year. For Dover sole and arrowtooth flounder from July-December 2006, the Makah Tribe will manage its fishery to a harvest target of 476.3 mt for Dover sole and 1360.8 mt for arrowtooth flounder. Treaty fishing vessels are restricted to a 50,000 lb (22,680 kg) per 2 month limit for petrale sole for the entire year.

* * * * *

5. In part 660, subpart G, Table 3 (North and South), Table 4 (South), and Table 5 (South) are revised to read as follows:

BILLING CODE 3510-22-S

[FR Doc. 06-5957 Filed 6-30-06; 8:45 am]

BILLING CODE 3510-22-C